DEPARTMENT OF COMMERCE

National Telecommunications and Information Administration

First Responder Network Authority Board Meetings

AGENCY: National Telecommunications and Information Administration, U.S. Department of Commerce.

ACTION: Notice of open public meetings.

SUMMARY: The Board of the First Responder Network Authority (FirstNet) will convene an open public meeting of the Board on June 3, 2014, preceded by meetings of the Board Committees on June 2, 2014.¹

¹ On February 28, 2014, FirstNet announced the dates and times of future Board meetings, including this Board meeting on June 3, 2014. See Notice of Open Public Meetings, 79 FR 11421 (Feb. 28, 2014). This Notice supersedes the earlier notice and provides the correct dates, times, and other information about the June 2, 2014 Board Committee meetings and the June 3, 2014 Board meeting.

DATES: On June 2, 2014 between 3 p.m. and 7 p.m. Mountain Daylight Time there will be sequential meetings of FirstNet's four Board Committees: (1) Governance and Personnel; (2) Outreach; (3) Technology; and (4) Finance. The full FirstNet Board will hold a meeting on June 3, 2014, between 8 a.m. and 10 a.m. Mountain Daylight Time.

ADDRESSES: Board members will meet in Ballroom 4 of the Westin Westminster Hotel, 10600 Westminster Boulevard, Westminster, CO 80020.

FOR FURTHER INFORMATION CONTACT: Uzoma Onyeije, Secretary, FirstNet, U.S. Department of Commerce, 1401 Constitution Avenue NW., Washington, DC 20230; telephone: (202) 482-0016; email: uzoma@firstnet.gov. Please direct media inquiries to FirstNet's Communications Department, (202) 482-4809 or corey.ray@firstnet.gov.

SUPPLEMENTARY INFORMATION: This notice informs the public that the Board of the First Responder Network Authority (FirstNet) will convene an open public meeting of the Board on June 3, 2014, preceded by meetings of the Board Committees on June 2, 2014.

Background: The Middle Class Tax Relief and Job Creation Act of 2012 (Act), Public Law 112-96, 126 Stat. 156 (2012), created FirstNet as an independent authority within NTIA. The Act directs FirstNet to establish a single nationwide, interoperable public safety broadband network. The FirstNet Board is responsible for making strategic decisions regarding FirstNet's operations. The FirstNet Board held its first public meeting on September 25, 2012.

Matters To Be Considered: FirstNet will post detailed agendas of each meeting on its Web site, http://www.firstnet.gov, prior to the meetings. The agenda topics are subject to change. Please note that the subjects that will be discussed by the Committees and the Board may involve commercial and financial information that is privileged or confidential, personnel matters, and other legal matters affecting FirstNet. As such, the Committee Chairs and Board Chair may call for a vote to close the meetings pursuant to 47 U.S.C. 1424(e)(2).

Times and Dates of June 2014 Meetings: On June 2, 2014, between 3 p.m. and 7 p.m. Mountain Daylight Time there will be sequential meetings of FirstNet's four committees. The full FirstNet Board meeting will be held on June 3, 2014, between 8 a.m. and 10 a.m. Mountain Daylight Time.

Place: The June 3 Board meeting and the June 2 Committee meetings will be held in Ballroom 4 of the Westin Westminster Hotel, 10600 Westminster Boulevard, Westminster, Colorado.

Other Information: These meetings are open to the public and press. Members of the public wishing to attend the meetings in person will be directed to an auditorium where they can observe the meeting by video. For access to the meetings, valid, government issued photo identification may be requested for security reasons. The meetings are accessible to people with disabilities. Individuals requiring accommodations, such as sign-language interpretation or other ancillary aids, are asked to notify Uzoma Onyeije, Secretary, FirstNet, at (202) 482-0016 or uzoma@firstnet.gov at least five (5) business days before the meeting. The meetings will also be webcast. Please refer to NTIA's Web site at http://www.ntia.doc.gov/category/firstnet for webcast instructions and other information. If you have technical questions regarding the webcast, please contact Corey Ray, at (202) 482-4809 or corey.ray@firstnet.gov.

Records: NTIA maintains records of all Board proceedings. Board minutes will be available at http://www.ntia.doc.gov/category/firstnet.

Dated: May 16, 2014.
Kathy D. Smith,
Chief Counsel, National Telecommunications and Information Administration.

[FR Doc. 2014-11755 Filed 5-20-14; 8:45 am]

BILLING CODE 3510-60-P